FEDERAL MARITIME COMMISSION

46 CFR Parts 530 and 531

[Docket No. 11-03]

RIN 3072-AC42

Service Contracts and Non-Vessel-Operating Service Arrangements; Transmission of Approved Log-In ID and Passwords

February 28, 2011.

AGENCY: Federal Maritime Commission.

ACTION: Final rule.

SUMMARY: The Federal Maritime Commission amends Part 530 and 531 of its regulations to enable it to use methods other than the U.S. Mail to advise applicants for log-in IDs and passwords.

DATES: The Final Rule is effective March 3, 2011.

FOR FURTHER INFORMATION CONTACT:

Karen V. Gregory, Secretary, Federal Maritime Commission, 800 North Capitol Street, NW., Washington, DC 20573-0001, Tel.: (202) 523-5725, E-mail: secretary@fmc.gov.

Rebecca A. Fenneman, General Counsel, Federal Maritime Commission, 800 North Capitol Street, NW., Washington, DC 20573-0001, Tel.: (202) 523-5740, E-mail: generalcounsel@fmc.gov.

SUPPLEMENTARY INFORMATION: The Federal Maritime Commission (FMC or Commission) is amending its regulations at 46 CFR 530.5(c)(2) and 531.5(d)(2) to replace the name of a predecessor Office and to remove the requirement that the Office use only the U.S. Mail to transmit approved log-on IDs and password to registrants in the Commission's automated SERVCON filing system.

Pursuant to 5 U.S.C. 553, the amended rules are published as final and effective upon publication.

This Final Rule is not a “major rule” under 5 U.S.C. 804(2).

List of Subjects in 46 CFR Parts 530 and 531

Freight, Maritime carriers, Reporting and recordkeeping requirements.

For the reasons stated in the supplementary information, the Federal Maritime Commission amends 46 CFR parts 530 and 531 as follows.

PART 530—SERVICE CONTRACTS

1. The authority citation for part 530 continues to read as follows:

Authority: 5 U.S.C. 553; 46 U.S.C. 305, 40301-40306, 40501-40503, 41307.

2. Revise § 530.5(c)(2) to read as follows:

§ 530.5 Duty to file.

* * * * *

(c) * * *

(2) Approved registrations. OIT shall provide approved Registrants a log-on ID and password for filing and amending service contracts and notify Registrants of such approval.

PART 531—NVOCC SERVICE ARRANGMENTS

3. The authority citation for part 531 continues to read as follows:

Authority: 46 U.S.C. 40103.

4. Revise § 531.5(d)(2) to read as follows:

§ 531.5 Duty to file.

* * * * *

(d) * * *

(2) Approved registrations. OIT shall provide approved Registrants a log-on ID and password for filing and amending NSAs and notify Registrants of such approval.

By the Commission.
Karen V. Gregory,
Secretary.

[FR Doc. 2011-4769 Filed 3-2-11; 8:45 am]

BILLING CODE P